DEPARTMENT OF TRANSPORTATION

Surface Transportation Board

[STB Finance Docket No. 33845]

Illinois Indiana Development Company, LLC—Acquisition and Operation Exemption—Norfolk Southern Railway Company

Illinois Indiana Development Company, LLC (IIDC), a noncarrier, has filed a verified notice of exemption under 49 CFR 1150.31 to acquire (by purchase agreement) and operate ¹ approximately 25.888 miles of rail line owned by Norfolk Southern Railway Company as follows: (1) A portion of the Michigan City Branch line from milepost 136.0 in Dillon, IN, to the end of the line, at milepost 158.518 in Michigan City, IN; and (2) approximately 3.37 miles of the South Bend Branch line from milepost 200.369 in Dillon, IN, to the end of the track in Kingsbury, IN.²

¹ IIDC states that it intends to enter into an operating agreement with Chicago SouthShore & South Bend Railroad (CSS), a Class III rail carrier, whereby CSS will conduct freight operations over the above-described rail line. IIDC further states that it will retain a residual common carrier obligation.

² IIDC certifies that its projected revenues as a result of this transaction will not exceed those that would qualify it as a Class III rail carrier.

The transaction was scheduled to be consummated on or after February 3, 2000.

This transaction is related to a concurrently filed verified notice of exemption in STB Finance Docket No. 33819, Chicago SouthShore & South Bend Railroad—Operation Exemption—Illinois Indiana Development Company, LLC, wherein CSS will conduct freight operations over the lines being acquired by IIDC, and a concurrently filed petition for exemption in STB Finance Docket No. 33846, Peter A. Gilbertson, et al., and SouthShore Corporation—Control Exemption—Illinois Indiana Development Company, LLC, wherein Peter A. Gilbertson, et al., and SouthShore Corporation seek an exemption to continue in control of IIDC once it becomes a Class III rail carrier. The petition is currently pending.

If the notice contains false or misleading information, the exemption is void ab initio. Petitions to revoke the exemption under 49 U.S.C. 10502(d) may be filed at any time. The filing of a petition to revoke will not automatically stay the transaction.

An original and 10 copies of all pleadings, referring to STB Finance Docket No. 33845, must be filed with the Surface Transportation Board, Office of the Secretary, Case Control Unit, 1925 K Street, NW, Washington, DC 20423-0001. In addition, one copy of each pleading must be served on Rose-Michele Weinryb, Esq., Weiner, Brodsky, Sidman & Kider, P.C., 1350 New York Avenue, NW, Suite 800, Washington, DC 20005-4797.

Board decisions and notices are available on our website at “WWW.STB.DOT.GOV.”

Decided: February 17, 2000.
By the Board, David M. Konschnik, Director, Office of Proceedings.
Vernon A. Williams,
Secretary.

[FR Doc. 00-4366 Filed 2-24-00; 8:45 am]

BILLING CODE 4915-00-P